DEPARTMENT OF ENERGY

Federal Energy Regulatory Commission

[Project No. 14430-0093]

Apple Inc., Monroe Hydro, LLC; Notice of Transfer of Exemption

1. On January 8, 2021, Apple Inc., exemptee for the Monroe Drop Hydroelectric Project No. 14430, filed a letter notifying the Commission that the project was transferred from Apple Inc. to Monroe Hydro, LLC. The exemption from licensing was originally issued on August 1, 2014.¹ The project is located on the U.S. Bureau of Reclamation's North Unit Irrigation District's Main Canal near the town of Culver, Jefferson County, Oregon. The transfer of an exemption does not require Commission approval.

¹ Monroe Hydro, LLC, 148 FERC ¶ 62,098 (2014).

2. Monroe Hydro, LLC is now the exemptee of the Monroe Drop Hydroelectric Project No. 14430. All correspondence must be forwarded to: Mrs. Gia Schneider, Monroe Hydro, LLC, 2401 Monarch Street, Alameda, CA 94501, Phone: (510) 606-9073.

Dated: January 21, 2021.
Kimberly D. Bose,
Secretary.

[FR Doc. 2021-01774 Filed 1-26-21; 8:45 am]

BILLING CODE 6717-01-P